DEPARTMENT OF ENERGY

Federal Energy Regulatory Commission

Combined Notice of Filings #1

Take notice that the Commission received the following electric corporate filings:

Docket Numbers: EC12-24-000.

Applicants: Emera Incorporated, California Pacific Electric Company, LLC, Algonquin Power & Utilities Corp., Liberty Energy Utilities Co.

Description: Application of California Pacific Electric Company, LLC, et al.

Filed Date: 11/07/2011.

Accession Number: 20111107-5107.

Comment Date: 5 p.m. ET on 11/28/2011.

Docket Numbers: EC12-25-000.

Applicants: Avenal Park LLC, Sand Drag LLC, Sun City Project LLC, Eurus Combine Hills II LLC.

Description: Application for Authorization Pursuant to Section 203 of the Federal Power Act and Request for Expedited Consideration and Waivers.

Filed Date: 11/07/2011.

Accession Number: 20111107-5201.

Comment Date: 5 p.m. ET on 11/28/2011.

Docket Numbers: EC12-26-000.

Applicants: Boralex Industries Inc., ReEnergy Biomass V LLC.

Description: Application for Authorization of Proposed Transaction by Boralex Industries Inc., et al.

Filed Date: 11/07/2011.

Accession Number: 20111107-5204.

Comment Date: 5 p.m. ET on 11/28/2011.

Take notice that the Commission received the following electric rate filings:

Docket Numbers: ER03-534-013.

Applicants: Ingenco Wholesale Power, LLC.

Description: Notice of Change in Status of Ingenco Wholesale Power, LLC.

Filed Date: 11/07/2011.

Accession Number: 20111107-5212.

Comment Date: 5 p.m. ET on 11/28/2011.

Docket Numbers: ER10-1556-004.

Applicants: Longview Power.

Description: Notice of Change in Status of Longview Power, LLC.

Filed Date: 11/07/2011.

Accession Number: 20111107-5106.

Comment Date: 5 p.m. ET on 11/28/2011.

Docket Numbers: ER10-2068-007; ER10-2077-006.

Applicants: Delaware City Refining Company LLC, PBF Power Marketing LLC.

Description: Delaware City Refining Company LLC Notice of Change in Status.

Filed Date: 11/07/2011.

Accession Number: 20111107-5196.

Comment Date: 5 p.m. ET on 11/28/2011.

Docket Numbers: ER10-2923-004.

Applicants: Sunbury Generation LP.

Description: Notice of Change in Status of Sunbury Generation LP.

Filed Date: 11/07/2011.

Accession Number: 20111107-5199.

Comment Date: 5 p.m. ET on 11/28/2011.

Docket Numbers: ER11-4121-001.

Applicants: Midwest Independent Transmission System Operator, Inc.

Description: Allete-Bison LGIA_Deficiency Response to be effective 7/27/2011.

Filed Date: 11/07/2011.

Accession Number: 20111107-5063.

Comment Date: 5 p.m. ET on 11/28/2011.

Docket Numbers: ER11-4423-001.

Applicants: Lockport Energy Associates, L.P.

Description: Supplement to Triennial Updated Market Power Analysis Lockport Energy Associates, L.P.

Filed Date: 11/03/2011.

Accession Number: 20111103-5027.

Comment Date: 5 p.m. ET on 11/24/2011.

Docket Numbers: ER12-358-000.

Applicants: PJM Interconnection, LLC.

Description: Queue Position W2-040; Original Service Agreement No. 3097 to be effective 10/6/2011.

Filed Date: 11/07/2011.

Accession Number: 20111107-5117.

Comment Date: 5 p.m. ET on 11/28/2011.

Docket Numbers: ER12-359-000.

Applicants: PJM Interconnection, LLC.

Description: Queue Position O23; Original Service Agreement Nos. 2769 & 2770 to be effective 9/17/2010.

Filed Date: 11/07/2011.

Accession Number: 20111107-5148.

Comment Date: 5 p.m. ET on 11/28/2011.

Docket Numbers: ER12-360-000.

Applicants: New York Independent System Operator, Inc.

Description: NYISO Proposed Tariff Revisions Regarding New Capacity Zones to be effective 1/9/2012.

Filed Date: 11/07/2011.

Accession Number: 20111107-5158.

Comment Date: 5 p.m. ET on 11/28/2011.

Take notice that the Commission received the following electric reliability filings:

Docket Numbers: RR10-11-004.

Applicants: North American Electric Reliability Corp.

Description: Compliance Filing of the North American Electric Reliability Corporation in Response to the October 7, 2011 Order.

Filed Date: 11/07/2011.

Accession Number: 20111107-5195.

Comment Date: 5 p.m. ET on 11/28/2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 8, 2011.
Nathaniel J. Davis, Sr.,
Deputy Secretary.

[FR Doc. 2011-29539 Filed 11-15-11; 8:45 am]

BILLING CODE 6717-01-P